DEPARTMENT OF ENERGY

Federal Energy Regulatory Commission

Combined Notice of Filings #1

August 06, 2008.

Take notice that the Commission received the following electric rate filings:

Docket Numbers: ER96-2830-008.

Applicants: Washington Gas Energy Services, Inc.

Description: Washington Gas Energy Service Inc submits a Supplemental Compliance Filing, Second Revised sheet 1 to their electric power marketing tariff.

Filed Date: 08/01/2008.

Accession Number: 20080805-0211.

Comment Date: 5 p.m. Eastern Time on Friday, August 22, 2008.

Docket Numbers: ER98-4400-010.

Applicants: Pittsfield Generating Company, L.P.

Description: Pittsfield Generating Company LP submits a revised table of all generation assets controlled by it and affiliates grouped by balancing authority area.

Filed Date: 08/01/2008.

Accession Number: 20080805-0212.

Comment Date: 5 p.m. Eastern Time on Friday, August 22, 2008.

Docket Numbers: ER01-205-029; ER98-2640-027; ER98-4590-025; ER99-1610-033.

Applicants: Xcel Energy Services Inc.

Description: Refund Report of Xcel Energy Services Inc.

Filed Date: 08/05/2008.

Accession Number: 20080805-5077.

Comment Date: 5 p.m. Eastern Time on Tuesday, August 26, 2008.

Docket Numbers: ER06-185-009.

Applicants: New York Independent System Operator, Inc.

Description: New York Independent System Operator Inc submits the results of their real-time guarantee payment impact test for the period from 8/7/06 to 10/31/07.

Filed Date: 08/04/2008.

Accession Number: 20080805-0116.

Comment Date: 5 p.m. Eastern Time on Monday, August 25, 2008.

Docket Numbers: ER07-549-004; EC06-126-006; EL07-71-003.

Applicants: NSTAR Electric Company.

Description: Electric Refund Report of NSTAR Electric Company.

Filed Date: 08/04/2008.

Accession Number: 20080804-5104.

Comment Date: 5 p.m. Eastern Time on Monday, August 25, 2008.

Docket Numbers: ER07-1192-001.

Applicants: Wisconsin Electric Power Company.

Description: Amended and Restated Uncontested Settlement Agreement and Request for Expedited Approval.

Filed Date: 07/24/2008.

Accession Number: 20080724-5053.

Comment Date: 5 p.m. Eastern Time on Thursday, August 14, 2008.

Docket Numbers: ER08-895-001.

Applicants: Consolidated Edison Co. of New York, Inc.

Description: Consolidated Edison Co of New York, Inc responds to FERC's 6/24/08 Notice of Deficiency.

Filed Date: 08/01/2008.

Accession Number: 20080805-0111.

Comment Date: 5 p.m. Eastern Time on Friday, August 22, 2008.

Docket Numbers: ER08-1323-000.

Applicants: Fowler Ridge Wind Farm LLC.

Description: Application of Fowler Ridge Wind Farm LLC for order accepting market-based rate tariff, granting authorization and blanket authority and waiving certain requirements.

Filed Date: 08/01/2008.

Accession Number: 20080805-0072.

Comment Date: 5 p.m. Eastern Time on Friday, August 22, 2008.

Docket Numbers: ER08-1328-000.

Applicants: New England Participating Transmission.

Description: New England's Participating Transmission Owners submits supporting materials which identify updated rates for regional transmission and scheduling, system control and dispatch services effective as of 6/1/08.

Filed Date: 07/31/2008.

Accession Number: 20080801-0112.

Comment Date: 5 p.m. Eastern Time on Thursday, August 21, 2008.

Docket Numbers: ER08-1355-000.

Applicants: Southern California Edison Company.

Description: Southern California Edison Co submits a petition for waiver of tariff provisions to accommodate transition to reformed interconnection process etc.

Filed Date: 08/04/2008.

Accession Number: 20080805-0109.

Comment Date: 5 p.m. Eastern Time on Monday, August 25, 2008.

Docket Numbers: ER08-1356-000.

Applicants: Maine Yankee Atomic Power Company.

Description: Maine Yankee Atomic Power Co submits a revised formula rate schedule and supporting testimony and exhibits in compliance with FERC's Order 614.

Filed Date: 08/01/2008.

Accession Number: 20080805-0110.

Comment Date: 5 p.m. Eastern Time on Friday, August 22, 2008.

Take notice that the Commission received the following electric securities filings:

Docket Numbers: ES08-57-000.

Applicants: Orange and Rockland Utilities, Inc.

Description: Request of Orange and Rockland Utilities, Inc. for Authorization to Issue Short-Term Debt.

Filed Date: 08/04/2008.

Accession Number: 20080804-5055.

Comment Date: 5 p.m. Eastern Time on Monday, August 25, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-18726 Filed 8-12-08; 8:45 am]

BILLING CODE 6717-01-P